DEPARTMENT OF THE INTERIOR

Bureau of Land Management

[5420-D024; IDI-33416]

Disclaimer of Interest in Lands; Idaho

AGENCY: Bureau of Land Management, Interior.

ACTION: Notice.

SUMMARY: An application has been filed by the City of Coeur d'Alene, Idaho, for a recordable disclaimer of interest in certain land by the United States.

DATES: Comments should be received by October 22, 2001.

ADDRESSES: Comments or objections should be sent to: Eric Thomson, Field Manager, BLM Coeur d'Alene Field Office, 1808 N. Third St., Coeur d'Alene, ID 83814.

FOR FURTHER INFORMATION CONTACT: Scott Forssell, BLM Coeur d'Alene, Field Office, 1808 N. Third St., Coeur d'Alene, ID 83814. Phone (208) 769-5044.

SUPPLEMENTARY INFORMATION: Pursuant to Section 315 of the Federal Land Policy and Management Act of 1976 (43 U.S.C. 1745), the City of Coeur d'Alene has filed an application requesting the United States to issue a recordable disclaimer of interest in the following described land: Boise Meridian, Idaho T. 50 N., R. 4 W., section 14, lot 48, containing 20 acres more or less, (including that portion of lot 48 encumbered by right-of-way serial number IDI-1335, issued to the Coeur d'Alene and Spokane Railroad Co., Ltd., on May 8, 1903) as described in the official survey record approved October 28, 1904.

The above described land was conveyed to the City of Coeur d'Alene by an Act of Congress on April 28, 1904. However, the survey completed in 1904 erroneously portrayed the railroad right-of-way as a separate parcel. A recordable disclaimer of interest will be issued to remove the ambiguity created by the survey, allowing the City ownership of the entire parcel subject to outstanding rights that may have been in place at the time the Act was passed.

For a period of 90 days from the date of publication of this notice, all persons who wish to submit comments, suggestions, or objections in connection with the proposed disclaimer may present their views in writing to the undersigned officer at the above address. Accordingly, a recordable disclaimer of interest will be issued no sooner than 90 days after the date of this publication.

Dated: July 2, 2001.
Eric R. Thomson,
Field Manager.

[FR Doc. 01-18267 Filed 7-20-01; 8:45 am]

BILLING CODE 4310-66-M